DEPARTMENT OF THE INTERIOR

Bureau of Land Management

Colorado: Filing of Plats of Survey

April 8, 2003.

SUMMARY: The plats of survey of the following described land will be officially filed in the Colorado State Office, Bureau of Land Management, Lakewood, Colorado, effective 10 am., April 8, 2003. All inquiries should be sent to the Colorado State Office, Bureau of Land Management, 2850 Youngfield Street, Lakewood, Colorado 80215-7093.

(33% to CO-956-1420-BJ-0000-241A)

(6.7% to CO-956-7130-BJ-7377-241A)

(6.7% to CO-956-7130-BJ-7378-241A)

(6.6% to CO-956-1910-BJ-4239-241A)

(47% to CO-956-9820-BJ-CO01-241A)

The plat representing the dependent resurvey and survey in Township 50 North, Range 8 West, New Mexico Principal Meridian, Group 1370, Colorado, was accepted January 6, 2003.

The plat representing the dependent resurvey and survey in Township 50 North, Range 9 West, New Mexico Principal Meridian, Group 1370, Colorado, was accepted January 6, 2003.

The plat representing the corrective dependent resurvey for the ¼ sec. cor. of secs. 31 and 36, W. bdy. of T. 48 N., R. 8 W., New Mexico Principal, Group 1346, Colorado, was accepted February 7, 2003.

The plat representing the corrective dependent retracement, correcting the 1966-1990 tie to the section corner of sections 13, 18, 19 and 24, on the W. bdy. of T. 44 N., R. 13 W., New Mexico Principal Meridian, Group 937, Colorado, was accepted February 27, 2003.

The supplement plat, amending lots 9 and 12, in the E½NW¼ of section 30, to Parcels A and B of Lots 1 and 4, T. 38 N., R. 3 West, New Mexico Principal Meridian. Parcels A of Lots 1 and 4 are in government ownership and Parcels B of Lots 1 and 4 are in Private ownership. This based upon the plats approved May 20, 1884 , October 28, 1996 and Warranty Deed, Serial No. CO184, Dated September 5, 1950, was accepted March 4, 2003.

These surveys and plats were requested by the Bureau of Land Management for administrative and management purposes.

The plat representing the dependent resurvey of a portion of the east boundary, and the dependent resurvey of certain mineral surveys in the NE¼ of section 12, T. 1 S., R. 72 W, Sixth Principal Meridian, Group 1337, Colorado, was accepted January 28, 2003.

The plat representing the dependent resurvey of Mineral Survey Number 17116, the Leroy lode, in SE¼ of section 1, T. 1 S., R. 72 W, Sixth Principal Meridian, Group 1337, Colorado, was accepted January 28, 2003.

The plat representing the dependent resurvey of Mineral Survey Number 15850, the Zephyr and Cyclone lodes, in NW¼ of section 1, T. 1 S., R. 72 W, Sixth Principal Meridian, Group 1337, Colorado, was accepted January 28, 2003.

The plat representing the dependent resurvey of Mineral Survey Number 15085, the Jack Pine and Orion lodes, in section 20, T. 1 S., R. 72 W, Sixth Principal Meridian, Group 1337, Colorado, was accepted February 26, 2003.

The plat representing the subdivision survey of section 10, T. 1 S., R. 72 W, Sixth Principal Meridian, Group 1337, Colorado, was accepted February 26, 2003.

The plat representing the dependent resurvey of the S½ mile between section 1 and 2, and Mineral Survey Number 16383, Frederick and a portion of the Warrior lodes, in section 2, T. 1 S., R. 72 W, Sixth Principal Meridian, Group 1337, Colorado, was accepted February 26, 2003.

These surveys and plats were requested by Zone Land Surveyor, Arapahoe-Roosevelt National Forest, for a pilot forest health partnership between the Forest Service and Boulder County, and for management purposes.

The plat (3 sheets), of the dependent resurvey of Track 37 and survey of Track 37 A and Track 37 B, in section 1, T. 24 S., R. 69 W., Sixth Principal Meridian, Group 1294, Colorado, was accepted February 12, 2003.

This survey and plats were requested by the Forest Supervisor, Pike and San Isabel Nation Forest, for boundary identification and management purposes.

The plat representing the dependent resurvey and survey in the SW¼ of section 30, T. 5 S. R. 82 W., Sixth Principal Meridian, Group 1375, Colorado, was accepted February 19, 2003.

The supplemental plat , creating new lots 16 and 17, from old lot 5, in section 5, T. 1 S., R. 99 W., Sixth Principal Meridian Colorado, was accepted March 10, 2003.

This survey and plats requested by the White River National Forest for the purpose of land exchanges and management purposes.

The plat, representing the dependent resurvey and survey in section 4, T. 7 S., R. 74 W., Sixth Principal Meridian, Group 1380, Colorado, was accepted March 10, 2003.

This survey and plat were requested by the Federal Highway Administration for the the purpose of boundary identification for highway improvement projects.

Darryl A. Wilson,
Chief Cadastral Surveyor for Colorado.

[FR Doc. 03-9265 Filed 4-15-03; 8:45 am]

BILLING CODE 4310-JB-P